DEPARTMENT OF HOMELAND SECURITY

Coast Guard

46 CFR Part 10

[Docket No. USCG-2018-0041]

Draft Merchant Mariner Medical Manual

AGENCY: Coast Guard, DHS.

ACTION: Notice of availability, extension of public comment period.

SUMMARY: The Coast Guard is extending, for 30 days, the period for submitting public comments on the notice of availability of the Draft Merchant Mariner Medical Manual. The extension responds to requests made by the public.

DATES: The comment period for the Notice of availability published on November 13, 2018 (83 FR 56272) is extended. Comments must be submitted to the online docket via http://www.regulations.gov, or reach the Docket Management Facility, on or before February 13, 2019.

ADDRESSES: You may submit comments identified by docket number USCG-2018-0041 using the Federal eRulemaking Portal at http://www.regulations.gov. See the “Public Participation and Request for Comments” portion of the SUPPLEMENTARY INFORMATION section for further instructions on submitting comments.

FOR FURTHER INFORMATION CONTACT: For information about this document call or email Adrienne Buggs, M.D., United States Coast Guard, Office of Merchant Mariner Credentialing; telephone: 202-372-2357, email: MMCPolicy@uscg.mil.

SUPPLEMENTARY INFORMATION:

Public Participation and Comments

We encourage you to submit comments (or related material) on the draft Merchant Mariner Medical Manual. We will consider all submissions and may adjust our final action based on your comments. If you submit a comment, please include the docket number for this notice, indicate the specific section of the document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, will be posted in our online docket at http://www.regulations.gov and can be viewed by following that website's instructions. Additionally, if you go to the online docket and sign up for email alerts, you will be notified when comments are posted or the Coast Guard publishes any additional documents related to this notice of availability.

We accept anonymous comments. All comments received will be posted without change to http://www.regulations.gov and will include any personal information you have provided. For more about privacy and the docket, you may review a Privacy Act notice regarding the Federal Docket Management System in the March 24, 2005, issue of the Federal Register (70 FR 15086).

Background and Discussion of Draft Manual

We issued a Notice of Availability of the Draft Merchant Mariner Medical Manual on November 13, 2018 (83 FR 56272). We received requests from commenters asking for additional time for the comment period. We have decided to grant the extension to provide a greater opportunity for the public to review and provide their comments. With this extension, the total length of the public comment period will now be 90 days.

This notice is issued under the authority of 5 U.S.C. 552(a), 46 U.S.C. 7101, and 46 U.S.C. 7302.

Dated: December 12, 2018.
J.G. Lantz,
Director, Commercial Regulations and Standards, U.S. Coast Guard.

[FR Doc. 2018-27330 Filed 12-17-18; 8:45 am]

BILLING CODE 9110-04-P